DEPARTMENT OF COMMERCE

National Oceanic and Atmospheric Administration

RIN 0648-XE142

NOAA Fisheries Climate Science Strategy

AGENCY: National Marine Fisheries Service (NMFS), National Oceanic and Atmospheric Administration (NOAA), Commerce.

ACTION: Notice.

SUMMARY: NMFS is releasing the final NOAA Fisheries Climate Science Strategy (Strategy). The full Strategy, a Strategy Highlights document and additional information may be found at: http://www.st.nmfs.noaa.gov/ecosystems/climate/.

ADDRESSES: To obtain copies of the Strategy please go to: http://www.st.nmfs.noaa.gov/ecosystems/climate/ or contact Roger Griffis, Climate Change Coordinator, NMFS Office of Science and Technology, Silver Spring, MD 20910 (phone: 301-427-8134, email: roger.b.griffis@noaa.gov).

FOR FURTHER INFORMATION CONTACT: Additional information may be found at http://www.st.nmfs.noaa.gov/ecosystems/climate or contacting Roger Griffis, Climate Change Coordinator, NMFS Office of Science and Technology, Silver Spring, MD 20910, 301-427-8134 or email: roger.b.griffis@noaa.gov.

SUPPLEMENTARY INFORMATION:

Summary of Report

Climate-related changes in ocean and coastal ecosystems such as warming oceans, rising seas, loss of sea ice, ocean acidification and coastal droughts are impacting the nation's valuable living marine resources and the many people, businesses and communities that depend on them. These changes are expected to increase with continued changes in the planet's climate and ocean system affecting jobs, impacting economies and disrupting traditional ways of life. There is much at risk. For example, in the United States ocean related commercial and recreational fisheries generate approximately $200 billion in sales and support 1.7 million jobs each year.¹ These current and future climate-related changes also affect the information, tools and actions needed to fulfill the NOAA National Marine Fisheries Service (NOAA Fisheries) stewardship mandates for marine resources and the communities that depend on them.

¹ “Fisheries Economics of the U.S.” NOAA Office of Science and Technology, http://www.st.nmfs.noaa.gov/economics/publications/feus/fisheries_economics_2012.

The NOAA Fisheries Climate Science Strategy (Strategy) is part of a proactive approach to increase the production, delivery, and use of climate-related information needed to fulfill the agency's mandates in a changing climate, including the Magnuson-Stevens Act, Endangered Species Act, Marine Mammal Protection Act, National Environmental Policy Act and others. The Strategy responds to growing demands and directives for information and tools to prepare for and respond to climate impacts on marine and coastal resources, including the National Fish Wildlife and Plants Climate Adaptation Strategy (http://wildlifeadaptationstrategy.gov/). It provides a nationally consistent blueprint to address the following seven science objectives:

1. Identify appropriate, climate-informed reference points for managing living marine resources.

2. Identify robust strategies for managing living marine resources under changing climate conditions.

3. Design adaptive decision processes that can incorporate and respond to changing climate conditions.

4. Identify future states of marine and coastal ecosystems, living marine resources, and resource-dependent human communities in a changing climate.

5. Identify the mechanisms of climate impacts on ecosystems, living marine resources and resource-dependent human communities.

6. Track trends in living marine resources and resource-dependent human communities and provide early warning of change.

7. Build and maintain the science infrastructure needed to fulfill NOAA Fisheries mandates with changing climate conditions.

Implementing the Strategy is crucial for fulfilling NOAA Fisheries mandates, reducing climate-related impacts and increasing the resilience of living marine resources and resource-dependent communities in a changing climate. The Strategy recommends specific near- and medium-term actions that address common information needs across NOAA Fisheries mandates and regions.

The draft Climate Science Strategy underwent public review from January thru March 2015 (80 FR 3558, January 23, 2015) and received approximately 35 stakeholder comments from fishery management councils, states, tribes, academics, Non-Governmental Organizations and members of the public. The comments were generally positive with agreement on the need for action and support for both the content of the strategy and its implementation.

The Strategy is designed to be customized and implemented through Regional Action Plans that focus on building regional capacity and partnerships to address the Strategy's seven objectives. In 2015-2016, NOAA Fisheries Science Centers and Regional Offices will develop Regional Action Plans to identify strengths, weaknesses, priorities, and actions to address the Strategy over the next 5 years. Development of the Regional Action Plans will include opportunity for input from science and management partners and others. The Strategy is a key part of NOAA Fisheries efforts to respond to growing demands for information to help reduce impacts and increase the resilience of living marine resources and the communities that depend on them in a changing climate.

Dated: August 21, 2015.
Ned Cyr,
Director, Office of Science and Technology, National Marine Fisheries Service.

[FR Doc. 2015-21172 Filed 8-25-15; 8:45 am]

BILLING CODE 3510-22-P